DEPARTMENT OF THE INTERIOR

Minerals Management Service

Agency Information Collection Activities: Proposed Collection; Comment Request

AGENCY: Minerals Management Service (MMS), Interior.

ACTION: Notice of new information collection survey.

SUMMARY: To comply with the requirements of the Paperwork Reduction Act of 1995 (PRA), we are inviting comments on an information collection request (ICR) to conduct a new survey on “Labor Migration and the Deepwater Oil Industry.” We are preparing an ICR, which we will submit to the Office of Management and Budget (OMB) for review and approval.

DATES: Submit written comments by August 21, 2000.

ADDRESSES: Mail or hand carry comments to the Department of the Interior; Minerals Management Service; Attention: Rules Processing Team; Mail Stop 4024; 381 Elden Street; Herndon, Virginia 20170-4817. Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: Survey-Labor Migration and the Deepwater Oil Industry.

OMB Control Number: 1010-NEW.

Abstract: The Outer Continental Shelf (OCS) Lands Act, 43 U.S.C. 1331 et seq., requires the Secretary of the Interior to preserve, protect, and develop oil and gas resources in the OCS; make such resources available to meet the Nation's energy needs as rapidly as possible; balance orderly energy resources development with protection of the human, marine, and coastal environment; ensure the public a fair and equitable return on the resources offshore; and preserve and maintain free enterprise competition.

The OCS Lands Act (at 43 U.S.C. 1346, Environmental Studies) instructs the Secretary of the Interior to conduct studies to establish environmental information as he deems necessary and to monitor the human, marine, and coastal environments. The purpose of the studies is to provide time-series and data trend information which can be used to identify any significant changes in the quality and productivity of such environments, to establish trends in the areas studied and monitored, and to design experiments to identify the causes of such changes. This authority and responsibility are among those delegated to MMS.

MMS proposes to conduct a survey to examine the consequences of international labor on four port communities in southern Louisiana. The information collected will aid MMS in understanding the impact of foreign labor on the well-being of communities in southern Louisiana. The scientific information is needed to understand the concerns, fears, and desires of communities with respect to OCS activities, and it is necessary for successful operation of the OCS oil and gas program in the region.

Questions in the survey will address the respondent's historical ties to the oil and gas industry; current views about his/her community, impact of the presence of foreign-born immigrants in the four communities, and background and household information.

Responses are voluntary. No proprietary or items of a sensitive nature will be collected.

Frequency: This will be a one-time data collection activity.

Estimated Number and Description of Respondents: Approximately 200 randomly selected households in each of the four communities (800 respondents).

Estimated Annual Reporting and Recordkeeping “Hour” Burden: Approximately 25 minutes per survey for the primary data collection effort. Follow-up discussions, when held, will average approximately 20 minutes. The total annual burden is estimated at 340 hours (333 hours for primary survey + 7 hours for follow-up conversations).

Estimated Annual Reporting and Recordkeeping “Non-Hour Cost” Burden: We have identified no non-hour cost burdens to the respondents.

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *”

Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We will summarize written responses to this notice and address them in our submission for OMB approval. As a result of your comments, we will make any necessary adjustments to the burden in our submission to OMB.

Dated: June 12, 2000.
John V. Mirabella,
Acting Chief, Engineering and Operations Division.

[FR Doc. 00-15801 Filed 6-21-00; 8:45 am]

BILLING CODE 4310-MR-P